DEPARTMENT OF HOMELAND SECURITY

Federal Emergency Management Agency

[Docket ID FEMA-2023-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP).

DATES: The date of June 7, 2023 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Federal Emergency Management Agency, Department of Homeland Security.

Community | Community map repository address
Hampden County, Massachusetts (All Jurisdictions)
Docket No.: FEMA-B-2180
Town of Brimfield | Building Department, 23 Main Street, Brimfield, MA 01010.
Town of Holland | Town Hall, 27 Sturbridge Road, Holland, MA 01521.
Town of Wales | Town Hall, 3 Hollow Road, Wales, MA 01081.
Leelanau County, Michigan (All Jurisdictions)
Docket No.: FEMA-B-2170
Charter Township of Elmwood | Elmwood Township Hall, 10090 East Lincoln Road, Traverse City, Michigan 49684.
City of Traverse City | Governmental Center, 400 Boardman Avenue, Traverse City, Michigan, 49684.
Grand Traverse Band of Ottawa and Chippewa Indians | Grand Traverse Band of Ottawa & Chippewa Indians Tribal Government, 2605 North West Bay Shore Drive, Peshawbestown, Michigan 49682.
Township of Bingham | Bingham Township Office, 7171 South Center Highway, Traverse City, Michigan 49684.
Township of Centerville | Centerville Township Hall, 5001 South French Road, Cedar, Michigan 49621.
Township of Cleveland | Cleveland Township Hall, 955 East Harbor Highway, Maple City, Michigan 49664.
Township of Empire | Empire Township Hall, 10088 West Front Street, Empire, Michigan 49630.
Township of Glen Arbor | Township Hall, 6394 West Western Avenue, Glen Arbor, Michigan 49636.
Township of Leelanau | Leelenau Township Hall, 119 East Naganoba Street, Northport, Michigan 49670.
Township of Leland | Leland Township Office, 224 West Main Street, Lake Leelanau, Michigan 49653.
Township of Suttons Bay | Township Office, 95 West Fourth Street, Suttons Bay, Michigan 49682.
Village of Empire | Village Hall, 11518 South LaCore Street, Empire, Michigan 49630.
Village of Northport | Village Office, 116 West Naganoba Street, Northport, Michigan 49670.
Village of Suttons Bay | Village Office, 420 North Front Street, Suttons Bay, Michigan 49682.
Hamilton County, Ohio and Incorporated Areas
Docket No.: FEMA-B-2168
City of Blue Ash | City Hall, 4343 Cooper Road, Blue Ash, OH 45242.
City of Cincinnati | City Hall, 801 Plum Street, Cincinnati, OH 45202.
City of Loveland | City Hall, 120 West Loveland Avenue, Loveland, OH 45140.
City of Madeira | City Hall, 7141 Miami Avenue, Madeira, OH 45243.
City of Montgomery | City Hall, 10101 Montgomery Road, Montgomery, OH 45242.
City of The Village of Indian Hill | Indian Hill Village Hall, 6525 Drake Road, Cincinnati, OH 45243.
Unincorporated Areas of Hamilton County | Hamilton County Department of Public Works, 138 East Court Street, Room 800, Cincinnati, OH 45202.
Village of Fairfax | Municipal Building, 5903 Hawthorne Avenue, Fairfax, OH 45227.
Village of Mariemont | Municipal Building, 6907 Wooster Pike, Mariemont, OH 45227.
Village of Newtown | Village Office—Municipal Center, 3537 Church Street, Newtown, OH 45244.
Village of Terrace Park | Community Building, 428 Elm Avenue, Terrace Park, OH 45174.

[FR Doc. 2023-01424 Filed 1-24-23; 8:45 am]

BILLING CODE 9110-12-P